DEPARTMENT OF COMMERCE

National Oceanic and Atmospheric Administration

Proposed Information Collection; Comment Request; Southwest Region Permit Family of Forms

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 3, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Craig D'Angelo, (562) 980-4024 or Craig.Dangelo@noaa.gov.

SUPPLEMENTARY INFORMATION:

I. Abstract

This request is for revision and extension of a current information collection. Under the Magnuson-Stevens Fishery Conservation and Management Act, 16 U.S.C. 1801 et seq., permits are required for persons to participate in Federally-managed fisheries off the West Coast. There are three types of permits: Basic fishery permits for Highly Migratory Species (HMS), limited entry permits for Coastal Pelagic Species (CPS) and experimental fishing permits (EFPs). Appeals and certain waiver requests may also be submitted. Transfer applications may also be required.

The permit application forms provide basic information about permit holders and the vessels and gear being used. This information is important for understanding the nature of the fisheries and provides a link to participants. It also aids in enforcement of regulations. Minor modifications of the current HMS permit application will occur to simplify application questions.

II. Method of Collection

Forms are available on the internet; paper applications are also available and may be submitted by mail or FAX. In addition, an online submission option is expected to be available for Highly Migratory Species permits by April 30, 2013.

III. Data

OMB Control Number: 0648-0204.

Form Number: None.

Type of Review: Regular submission (revision and extension of a current information collection).

Affected Public: Business or other for-profit organizations.

Estimated Number of Respondents: 1,695 (HMS), 65 (CPS).

Estimated Time per Response: HMS permit renewal applications, 6 minutes; CPS transfers, 15 minutes; new HMS permits, 60 minutes; additional information (when requested) for the CPS fishery, 1 hour; appeals, 2 hours.

Estimated Total Annual Burden Hours: 170.

Estimated Total Annual Cost to Public: $25,855.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 27, 2013.
Gwellnar Banks,
Management Analyst, Office of the Chief Information Officer.

[FR Doc. 2013-07575 Filed 4-1-13; 8:45 am]

BILLING CODE 3510-22-P